DEPARTMENT OF AGRICULTURE

Animal and Plant Health Inspection Service

9 CFR Parts 71, 77, 78, and 90

[Docket No. APHIS-2010-0125]

Secretary's Advisory Committee on Animal Health; Meeting

AGENCY: Animal and Plant Health Inspection Service, USDA.

ACTION: Notice of public meeting.

SUMMARY: This is a notice to inform the public of an upcoming meeting of the Secretary's Advisory Committee on Animal Health. The meeting is organized by the Animal and Plant Health Inspection Service to discuss matters of animal health.

DATES: The meeting will be held November 1 and 2, 2011, from 9 a.m. to 5 p.m. each day.

ADDRESSES: The meeting will be held in the United States Access Board conference room, 1331 F Street, NW., Suite 800, Washington, DC 20004. Opportunities for participation are described in the Supplementary Information section of this notice.

FOR FURTHER INFORMATION CONTACT: Mr. Michael R. Doerrer, Chief Operating Officer, Veterinary Services, APHIS, USDA, 4700 River Road, Unit 37, Riverdale, MD 20737; (301) 734-5034; e-mail: SACAH.Management@aphis.usda.gov.

SUPPLEMENTARY INFORMATION: The Secretary's Advisory Committee on Animal Health (the Committee) advises the Secretary of Agriculture on matters of animal health, including means to prevent, conduct surveillance on, monitor, control, or eradicate animal diseases of national importance. In doing so, the Committee will consider public health, conservation of natural resources, and the stability of livestock economies.

Tentative topics for discussion at the upcoming meeting include:

• Proposed Rule on Traceability for Livestock Moving Interstate

• Wildlife Diseases

• Foot-and-Mouth Disease Vaccination

• Tuberculosis Framework

• Update on CoreOne (SCS) Rollout

Additional topics may be added to an updated agenda, which will be posted to the Committee's Web site at http://www.aphis.usda.gov/animal_health/acah/ no later than October 25, 2011.

The meeting will be open to the public and attendees should plan to arrive between 8 a.m. and 9 a.m. Attendees should be prepared to provide picture identification to enter the United States Access Board conference room. The Animal and Plant Health Inspection Service (APHIS), which is organizing the meeting, asks that those planning to attend the meeting inform APHIS by sending an email through an access portal (SACAH Signup button) on the Committee's Web site or directly to SACAH.Management@aphis.usda.gov. Please provide your name and organizational affiliation (if any), state which meeting date or dates you plan to attend, and indicate whether you wish to present an oral statement during the meeting.

Other Public Participation

Members of the public may also join the meeting via teleconference in “listen-only” mode. Participants who wish to listen in on the teleconference may do so by dialing 18887903291, followed by a public passcode, 1411045.

Twitter users may join through @USDA_APHIS and add #SACAH to any tweet that mentions @USDA_APHIS on the days of the meeting. If you do not have a Twitter account, you may still view live chats during the meeting on November 1 and 2, 2011, at http://www.twitter.com/USDA_APHIS.

Questions and written statements for the meeting may be submitted up to 5 working days in advance of the meeting for the Committee's consideration. Questions and written statements may be sent via e-mail to SACAH.Management@aphis.usda.gov or mailed to the person listed under FOR FURTHER INFORMATION CONTACT at the beginning of this notice. Statements may also be filed with the Committee after the meeting by sending them to SACAH.Management@aphis.usda.gov.

This notice of the meeting agenda is given pursuant to section 10 of the Federal Advisory Committee Act (5 U.S.C. App. 2).

Done in Washington, DC, this 5th day of October 2011.
Kevin Shea,
Acting Administrator, Animal and Plant Health Inspection Service.

[FR Doc. 2011-26354 Filed 10-11-11; 8:45 am]

BILLING CODE 3410-34-P